DEPARTMENT OF AGRICULTURE

Agricultural Marketing Service

7 CFR Part 920

[Doc. No. AMS-SC-20-0016; SC20-920-1 CR]

Kiwifruit Grown in California; Continuance Referendum

AGENCY: Agricultural Marketing Service, USDA.

ACTION: Referendum order.

SUMMARY: This document directs that a referendum be conducted among eligible California kiwifruit growers to determine whether they favor continuance of the marketing order regulating the handling of kiwifruit grown in California.

DATES: The referendum will be conducted from May 18 through May 29, 2020. Only current producers of kiwifruit within the California production area that produced kiwifruit during the period August 1, 2018, through July 31, 2019, are eligible to vote in this referendum.

ADDRESSES: Copies of the marketing order may be obtained from the California Marketing Field Office, Marketing Order and Agreement Division, Specialty Crops Program, AMS, U.S. Department of Agriculture, 2202 Monterey Street, Suite 102B, Fresno, California 93721-3129, or the Office of the Docket Clerk, Marketing Order and Agreement Division, Specialty Crops Program, AMS, USDA, 1400 Independence Avenue SW, STOP 0237, Washington, DC 20250-0237, or internet: http://www.regulations.gov.

FOR FURTHER INFORMATION CONTACT: Jeffery Rymer, Marketing Specialist, or Terry Vawter, Regional Director, California Marketing Field Office, Marketing Order and Agreement Division, Specialty Crops Program, AMS, USDA; Telephone: (559) 487-5901, Fax: (559) 487-5906, or Email: JefferyM.Rymer@usda.gov or Terry.Vawter@usda.gov.

SUPPLEMENTARY INFORMATION: Pursuant to Marketing Order No. 920, as amended (7 CFR part 920), hereinafter referred to as the “Order,” and the applicable provisions of the Agricultural Marketing Agreement Act of 1937, as amended (7 U.S.C. 601-674), hereinafter referred to as the “Act,” it is hereby directed that a referendum be conducted to ascertain whether continuance of the Order is favored by growers. The referendum shall be conducted from May 18 through May 29, 2020, among eligible California kiwifruit growers. Only current growers who were also engaged in the production of kiwifruit in California during the period of August 1, 2018, through July 31, 2019, may participate in the continuance referendum.

USDA has determined that continuance referenda are an effective means for determining whether growers favor the continuation of marketing order programs. USDA would consider termination of the Order if less than fifty percent of the growers voting in the referendum and growers of less than fifty percent of the volume of California kiwifruit represented in the referendum favor continuance of their program. In evaluating the merits of continuance versus termination, USDA will consider the results of the continuance referendum and other relevant information regarding operation of the Order. USDA will also consider the Order's relative benefits and disadvantages to growers, processors, and consumers to determine whether continuing the Order would tend to effectuate the declared policy of the Act.

In accordance with the Paperwork Reduction Act of 1995 (44 U.S.C. Chapter 35), the ballot materials used in the referendum have been approved by the Office of Management and Budget (OMB) under OMB No. 0581-0189, Fruit Crops. It has been estimated that it will take an average of 20 minutes for each of the approximately 150 growers of California kiwifruit to cast a ballot. Participation is voluntary. Ballots postmarked after May 29, 2020, will not be included in the vote tabulation.

Jeffery Rymer and Terry Vawter of the California Marketing Field Office, Specialty Crops Program, AMS, USDA, are hereby designated as the referendum agents of the Secretary of Agriculture to conduct this referendum. The procedure applicable to the referendum shall be the “Procedure for the Conduct of Referenda in Connection With Marketing Orders for Fruits, Vegetables, and Nuts Pursuant to the Agricultural Marketing Agreement Act of 1937, as Amended” (7 CFR part 900.400 et seq.).

Ballots will be mailed to all growers of record and may also be obtained from the referendum agents or their appointees.

List of Subjects in 7 CFR Part 920

Marketing agreements, Kiwifruit, Reporting and recordkeeping requirements.

Authority: 7 U.S.C. 601-674.

Dated: February 25, 2020.
Bruce Summers,
Administrator, Agricultural Marketing Service.

[FR Doc. 2020-04176 Filed 3-4-20; 8:45 am]

BILLING CODE 3410-02-P